DEPARTMENT OF COMMERCE

National Oceanic and Atmospheric Administration

[RTID 0648-XE423]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Monitoring Committee will hold a public webinar meeting.

DATES: The meeting will be held on Tuesday, November 19, 2024, from 9 a.m. until 12 p.m. For agenda details, see SUPPLEMENTARY INFORMATION.

ADDRESSES: The meeting will be held via webinar. Connection information will be posted at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Monitoring Committee will meet via webinar to discuss 2025 recreational management measures for all three species. Last year, two-year recreational measures were adopted for summer flounder and scup for 2024-2025, with the intent to review 2025 measures in 2024. For black sea bass, recreational measures were previously set only for 2024. The objectives of this meeting are for the Monitoring Committee to: (1) Review recent recreational fishery performance information and recommendations from the Advisory Panel, (2) Review previously adopted recreational measures for summer flounder and scup and recommend any changes if warranted; and (3) Recommend 2025 recreational measures for black sea bass. Meeting materials will be posted to www.mafmc.org.

Special Accommodations

The meeting is physically accessible to people with disabilities. Requests for sign language interpretation or other auxiliary aid should be directed to Shelley Spedden, (302) 526-5251, at least 5 days prior to the meeting date.

Authority: 16 U.S.C. 1801 et seq.

Dated: October 25, 2024.
Rey Israel Marquez,
Acting Deputy Director, Office of Sustainable Fisheries, National Marine Fisheries Service.

[FR Doc. 2024-25203 Filed 10-29-24; 8:45 am]

BILLING CODE 3510-22-P